ENVIRONMENTAL PROTECTION AGENCY

40 CFR Part 81

[MO 169-1169; IL 187-2; FRL-7444-4]

Determination of Nonattainment as of November 15, 1996, and Reclassification of the St. Louis Ozone Nonattainment Area; States of Missouri and Illinois

Correction

In rule document 03-1771 beginning on page 4836 in the issue of Thursday, January 30, 2003, make the following correction:

§ 81.326 [Corrected]

On page 4841, in § 81.326, in the table, in the first column, under the heading “St. Louis Area”, in the fourth entry, “St. Louis County” should read, “St. Louis”.

[FR Doc. C3-1771 Filed 2-12-03; 8:45 am]

BILLING CODE 1505-01-D

DEPARTMENT OF THE TREASURY

Bureau of Alcohol, Tobacco and Firearms

27 CFR Part 55

[Notice No. 968]

RIN 1512-AB48

Commerce in Explosives (2000R-9P)

Correction

In proposed rule document 03-1946 beginning on page 4406 in the issue of Wednesday, January 29, 2003, make the following corrections:

§ 55.11 [Corrected]

1. On page 4416, in §55.11, in the third column, in the sixth line from the bottom, after “perchlorate,” add “sulphur”.

§ 55.207 [Corrected]

2. On page 4419, in §55.207, in the third column, in paragraph (c)(8), in the third line, “6-inches” should read, “6¾ inches”.

§ 55.208 [Corrected]

3. On page 4420, in §55.208, in the third column, in paragraph (d)(18), in the seventh line, “ “-inch ” should read, “¾-inch”.

[FR Doc. C3-1946 Filed 2-12-03; 8:45 am]

BILLING CODE 1505-01-D